DEPARTMENT OF ENERGY

Nuclear Energy Advisory Committee; Charter Amendments, Establishments, Renewals and Terminations: Nuclear Energy Advisory Committee

AGENCY: Office of Nuclear Energy, Department of Energy.

ACTION: Notice of renewal.

SUMMARY: Pursuant to the Federal Advisory Committee Act, and following consultation with the Committee Management Secretariat, General Services Administration, notice is hereby given that the Nuclear Energy Advisory Committee's charter will be renewed for a two-year period.

FOR FURTHER INFORMATION CONTACT: Krystal Milam, Designated Federal Officer at (301) 961-0383; email: krystal.milam@nuclear.energy.gov.

SUPPLEMENTARY INFORMATION: The Committee continues to provide advice and recommendations to the Assistant Secretary for Nuclear Energy and advise on national policy and scientific aspects of nuclear issues of concern to DOE; provide periodic reviews of the various program elements within DOE's nuclear programs and recommendations based thereon; ascertain the needs, views, and priorities of DOE's nuclear programs, and advise on long-range plans, priorities, and strategies to address more effectively the technical, financial, and policy aspects of such programs; and advise on appropriate levels of resources to develop those plans, priorities, and strategies.

Additionally, the Nuclear Energy Advisory Committee has been determined to be essential to conduct Department of Energy business and to be in the public interest in connection with the performance of duties imposed upon the Department of Energy, by law and agreement. The Committee will continue to operate in accordance with the provisions of the Federal Advisory Committee Act, adhering to the rules and regulations in implementation of that Act.

Signing Authority

This document of the Department of Energy (DOE) was signed on December 8, 2023, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 8, 2023.
Treena V. Garrett,
Federal Register Liaison Officer, U.S. Department of Energy.

[FR Doc. 2023-27316 Filed 12-12-23; 8:45 am]

BILLING CODE 6450-01-P